DEPARTMENT OF EDUCATION

Proposed Waivers and Extensions of Project Periods: Presidential Academies and Congressional Academies

AGENCY: Office of Innovation and Improvement, Department of Education.

ACTION: Notice of proposed waiver and extension of project period.

SUMMARY: The Secretary proposes to waive the requirements in 34 CFR 75.250 and 75.261(c)(2) of the Education Department General Administrative Regulations (EDGAR), as they apply to projects funded under the Presidential Academies for American History and Civics Education, and 34 CFR 75.261(c)(2), as it applies to the project funded under the Congressional Academies for Students of American History and Civics Education. These regulations, respectively, generally prohibit project periods exceeding five years and any project period extensions involving the obligation of additional Federal funds. A waiver as proposed would mean that (1) the project period for the two current five-year grants funded under the Presidential Academies for American History and Civics Education would be extended through fiscal year (FY) 2012, for up to an additional 24-month budget period, instead of ending in FY 2010, and these grantees could thus receive additional Federal funding (out of FY 2010 funds) beyond the five-year limitation contained in 34 CFR 75.250 and notwithstanding the limitation in 34 CFR 75.261(c)(2) that prohibits extension of a project period if it involves the obligation of additional Federal funds; and (2) the project period of the one current three-year grantee funded under the Congressional Academies for Students of American History and Civics Education would be extended through FY 2012, for up to an additional 24-month budget period, instead of ending in FY 2010, and this grantee would continue to receive additional Federal funds (out of FY 2010 funds) notwithstanding the limitation in 34 CFR 75.261(c)(2) that prohibits extension of a project period if it involves the obligation of additional Federal funds.

DATES: We must receive your comments on or before July 30, 2010.

ADDRESSES: Address all comments about this notice to Kelly O'Donnell, U.S. Department of Education, 400 Maryland Avenue, SW., room 4W253, Washington, DC 20202-5960. If you prefer to send your comments by e-mail, use the following address: Academies@ed.gov. You must include the term “Waiver” in the subject line of your electronic message.

FOR FURTHER INFORMATION CONTACT: Kelly O'Donnell. Telephone: (202) 205-5231.

If you use a telecommunications device for the deaf (TDD), call the Federal Relay Service (FRS), toll free, at 1-800-877-8339.

SUPPLEMENTARY INFORMATION: Invitation to Comment: We invite you to submit comments regarding this notice.

During and after the comment period, you may inspect all public comments about this notice of proposed waiver and extension of project period in room 4W335, 400 Maryland Avenue, SW., Washington, DC, between the hours of 8:30 a.m. and 4:00 p.m., Washington, DC time, Monday through Friday of each week, except Federal holidays.

Assistance to Individuals With Disabilities in Reviewing the Rulemaking Record: On request we will provide an accommodation or auxiliary aid to an individual with a disability who needs assistance to review the comments or other documents in the public rulemaking record for this notice. If you want to schedule an appointment for this type of accommodation or auxiliary aid, please contact the person listed under FOR FURTHER INFORMATION CONTACT.

Background

The Presidential Academies for American History and Civics Education (Presidential Academies) program funds projects that offer workshops for both veteran and new teachers of American history and civics to strengthen their knowledge of, and preparation for, teaching these subjects. The Congressional Academies for Students of American History and Civics Education (Congressional Academies) program funds projects that help students to develop a broader and deeper understanding of these subjects. Currently, the Presidential Academies program funds two grantees, and the Congressional Academies program funds one grantee.

Entities that have been historically eligible for these programs are: Institutions of higher education (IHEs), museums, libraries, and other public and private agencies, organizations, and institutions (including for-profit institutions) and consortia of such agencies, organizations, and institutions. Applicants must provide evidence of their organization's demonstrated expertise in historical methodology or the teaching of history.

We seek this waiver and extension of project period in order to enable each of the current grantees to strengthen the quality of its evaluation and other data collection and reporting, and to conduct one additional round of academy activities as approved in each grant award. We believe the additional time and resources will provide information to strengthen this grant competition as well as similar professional development grant programs in coming years.

The Presidential and Congressional Academies projects are relatively small, with defined intervention strategies consisting of summer workshops and seminars. The small number of grants and the focus of the projects provide a confined and structured environment in which to collect data. Grantees will evaluate the effect of their new and previous activities on teacher content knowledge and student achievement in American history.

The additional budget period will provide resources and time for the grantees to: (1) Collect information about the components and design of their new and previous activities, (2) analyze their intervention strategies to identify the components of each, (3) develop data collection rubrics to determine if and the extent to which one or more of the components are integrated into the participants' classroom teaching, (4) collect data from the participating teachers on whether and what specific components of the professional development intervention are linked to improved content knowledge and student achievement, (5) conduct an additional round of academies in 2011 (but not in 2012), and (6) prepare and submit to the Department a final report. Although the budget periods will be extended for up to 24 months to allow for completion of the evaluation activities, grantees would receive only one additional year's worth of funds out of the FY 2010 appropriation.

In the case of these projects we believe it is preferable to review requests for continuation awards from the current grantees and extend currently funded projects, rather than hold a new competition in FY 2010. Authorizing current grantees to request additional funds would be a more appropriate and effective means of continuing current projects and would result in a more cost-effective use of Federal funds.

Therefore, the Secretary proposes to waive the requirements in 34 CFR 75.250, which prohibit project periods exceeding five years, and the requirements in 34 CFR 75.261(c)(2), which limit the extension of a project period if it involves the obligation of additional Federal funds. With this waiver and extension of project period: (1) Current Presidential Academies and Congressional Academies grantees would receive FY 2010 funds and continue to operate through FY 2012 to implement an additional budget period of up to 24 months; and (2) we would not announce a new competition or make new awards under the Presidential Academies or Congressional Academies programs in FY 2010.

If the waiver of 34 CFR 75.250 and 34 CFR 75.261(c)(2) proposed in this notice is made, the requirements applicable to continuation awards for current Presidential Academies and Congressional Academies grantees in 34 CFR 75.253 would apply to any continuation awards sought by eligible current grantees under these programs.

The waiver of 34 CFR 75.250 and 75.261(c)(2) would not exempt current Presidential Academies and Congressional Academies grantees from the account-closing provisions of 31 U.S.C. 1552(a), nor would it extend the availability of funds previously awarded to current grantees. As a result of 31 U.S.C. 1552(a), appropriations available for a limited period may be used for payment of valid obligations for only five years after the expiration of their period of availability for Federal obligation. After that time, the unexpended balance of those funds is canceled and returned to the U.S. Treasury Department and is unavailable for restoration for any purpose.

We will announce the final waiver and extension of project period, if any, in a notice in the Federal Register. We will determine the final waiver and extension of project period after considering responses to this notice and other information available to the Department.

Proposed Waiver and Extension of Project Period—Presidential Academies and Congressional Academies

The Secretary proposes to waive the requirements in 34 CFR 75.250 and 75.261(c)(2), which prohibit project periods exceeding five years and extensions of project periods that involve the obligation of additional Federal funds, for the current Presidential Academies and Congressional Academies grantees.

Regulatory Flexibility Act Certification

The Secretary certifies that this proposed waiver and extension of project period would not have a significant economic impact on a substantial number of small entities.

The small entities that would be affected by this notice are those that have been historically eligible to receive an award under a competition for the Presidential Academies and Congressional Academies programs:

(1) Institutions of higher education.

(2) Museums.

(3) Libraries.

(4) Other public and private agencies, organizations and institutions (including for-profit institutions).

(5) Consortia of such agencies, organizations, and institutions that show their organizations' demonstrated expertise in historical methodology or the teaching of history.

The Secretary certifies that the proposed waiver and extension of project period would not have a significant economic impact on these entities because the proposed waivers and the activities required to support the additional years of funding would not impose excessive regulatory burdens or require unnecessary Federal supervision. The proposed waiver would impose minimal requirements to ensure the proper expenditure of program funds, including requirements that are standard for continuation awards.

Paperwork Reduction Act of 1995

This notice does not contain any information collection requirements.

Intergovernmental Review

These programs are subject to Executive Order 12372 and the regulations in 34 CFR part 79. One of the objectives of the Executive Order is to foster an intergovernmental partnership and a strengthened federalism. The Executive Order relies on processes developed by State and local governments for coordination and review of proposed Federal financial assistance.

This document provides early notification of our specific plans and actions for these programs.

Accessible Format: Individuals with disabilities can obtain this document in an accessible format (e.g., braille, large print, audiotape, or computer diskette) on request to the contact person listed under FOR FURTHER INFORMATION CONTACT.

Electronic Access to This Document: You can view this document, as well as all other documents of this Department published in the Federal Register, in text or Adobe Portable Document Format (PDF) on the Internet at the following site: http://www.ed.gov/news/fedregister. To use PDF you must have Adobe Acrobat Reader, which is available free at this site.

Note: The official version of this document is the document published in the Federal Register. Free Internet access to the official edition of the Federal Register and the Code of Federal Regulations is available on GPO Access at: http://www.gpoaccess.gov/nara/index.html.

(Catalog of Federal Domestic Assistance Numbers 84.215A, Presidential Academies for American History and Civics Education, and 84.215D, Congressional Academies for Students of American History and Civics Education)

Program Authority: 20 U.S.C. 6713.

Dated: June 25, 2010.
James H. Shelton, III,
Assistant Deputy Secretary for Innovation and Improvement.

[FR Doc. 2010-15921 Filed 6-29-10; 8:45 am]

BILLING CODE 4000-01-P